DEPARTMENT OF JUSTICE

[Docket No. OIP-0001]

Notice of Chief Freedom of Information Act Officer Council Meeting

AGENCY: Department of Justice.

ACTION: Notice of Chief FOIA Officer Council meeting.

SUMMARY: In accordance with the Freedom of Information Act (5 U.S.C. 552(k), DOJ announces the first meeting of the newly formed Chief FOIA Officer Council. Additional details about the meeting will be announced on OIP's Web sites at: https://www.justice.gov/oip.

DATES: The meeting will be on July 22, 2016, at 2:00 p.m. EDT. You must register for the meeting by 5:00 p.m. EDT on July 15, 2016.

Location: Eisenhower Executive Office Building; 1650 Pennsylvania Avenue NW., Washington, DC 20502.

FOR FURTHER INFORMATION CONTACT: OIP by mail at Department of Justice; Office of Information Policy; 1425 New York Avenue NW., Suite 11050, Washington, DC 20530-001, by telephone at 202-514-3642, or by email at DOJ.OIP.FOIA@usdoj.gov with the subject line: “Chief FOIA Officer Council.”

SUPPLEMENTARY INFORMATION: Additional details about the meeting will be announced on OIP's Web sites at: https://www.justice.gov/oip. Additional Information: The Council welcomes the attendance of the public at this meeting and will make every effort to accommodate persons with physical disabilities or special needs. If you require special accommodations, please indicate your requirements on the online registration form.

Dated: June 30, 2016.
Carmen L. Mallon,
Chief of Staff, Office of Information Policy.

[FR Doc. 2016-16000 Filed 7-1-16; 8:45 am]

BILLING CODE 4410-18-P